DEPARTMENT OF DEFENSE

Department of the Army

Final Environmental Assessment for BRAC 95 Disposal and Reuse of Camp Kilmer, New Jersey

AGENCY: Department of the Army, DoD.

ACTION: Notice of availability.

SUMMARY: In accordance with Public Law 101-510 (as amended), the Defense Base Closure and Realignment Act of 1990, the Defense Base Closure and Realignment Commission recommended the closure of Camp Kilmer, New Jersey.

The Final Environmental Assessment (EA) evaluates the environmental impacts of the disposal and subsequent reuse of the 49 acres. Alternatives examined in the EA include no action, unencumbered disposal of the property, encumbered disposal of the property. Encumbered disposal refers to transfer or conveyance of property having restrictions on subsequent use as a result of any Army-imposed or legal restraint. The unencumbered disposal alternative refers to the transfer of property without encumbrances such as environmental restrictions and easements. Under the no action alternative, the Army would not dispose of property but would maintain it in caretaker status for an indefinite period.

DATES: Comments must be submitted on or before June 19, 2000.

ADDRESSES: A copy of the Final EA may be obtained by writing to Mr. Carl Burgamy, Jr., U.S. Army Corps of Engineers, U.S. Army Engineer District, Mobile (CESAM-PD), 109 St. Joseph Street, Mobile, AL 36602.

FOR FURTHER INFORMATION CONTACT: Mr. Carl Burgamy, Jr. at (334) 690-2036 or telefax at (334) 690-2727.

SUPPLEMENTARY INFORMATION: While closure of Camp Kilmer is the Army's primary action, the EA also analyzes the potential environmental effects of reuse as a secondary action by means of evaluating intensity-based reuse scenarios. The Army's preferred alternative for disposal of Camp Kilmer's excess property is encumbered disposal, with encumbrances pertaining to easements, use restrictions, restrictions pertaining to asbestos-containing material, future remedial activities after transfer, utility dependencies.

A Notice of Intent (NOI) declaring the Army's intent to prepare an EA for the closure of Camp Kilmer was published in the Federal Register on September 22, 1995 (60 FR 49264).

The Final EA is available for review at the Main Public Library, 340 Plainfield Ave., Edison, NJ 08817. Prior to initiating action the Army will consider comments received on this EA.

Dated: May 15, 2000.
Raymond J. Fatz,
Deputy Assistant Secretary of the Army, (Environment, Safety and Occupational Health); OASA (I&E).

[FR Doc. 00-12583 Filed 5-17-00; 8:45 am]

BILLING CODE 3710-08-M